DEPARTMENT OF TRANSPORTATION

Federal Motor Carrier Safety Administration

[Docket No. FMCSA-2002-11714]

Qualification of Drivers; Exemption Applications; Vision

AGENCY: Federal Motor Carrier Safety Administration (FMCSA), DOT.

ACTION: Notice of applications for exemption from the vision standard; request for comments.

SUMMARY: This notice announces FMCSA's receipt of applications from 30 individuals for an exemption from the vision requirement in the Federal Motor Carrier Safety Regulations. If granted, the exemptions will enable these individuals to qualify as drivers of commercial motor vehicles (CMVs) in interstate commerce without meeting the vision standard prescribed in 49 CFR 391.41(b)(10).

DATES: Comments must be received on or before May 2, 2002.

ADDRESSES: You can mail or deliver comments to the U.S. Department of Transportation, Dockets Management Facility, Room PL-401, 400 Seventh Street, SW., Washington, DC 20590-0001. You can also submit comments as well as see the submissions of other commenters at http://dms.dot.gov. Please include the docket numbers that appear in the heading of this document. You can examine and copy this document and all comments received at the same Internet address or at the Dockets Management Facility from 9 a.m. to 5 p.m., e.t., Monday through Friday, except Federal holidays. If you want to know that we received your comments, please include a self-addressed, stamped postcard or include a copy of the acknowledgement page that appears after you submit comments electronically.

FOR FURTHER INFORMATION CONTACT: For information about the vision exemptions in this notice, Ms. Sandra Zywokarte, Office of Bus and Truck Standards and Operations, (202) 366-2987; for information about legal issues related to this notice, Mr. Joseph Solomey, Office of the Chief Counsel, (202) 366-1374, FMCSA, Department of Transportation, 400 Seventh Street, S.W., Washington, DC 20590. Office hours are from 7:45 a.m. to 4:15 p.m., e.t., Monday through Friday, except Federal holidays.

SUPPLEMENTARY INFORMATION:

Electronic Access and Filing

You may see all the comments online through the Document Management System (DMS) at: http://dmses.dot.gov/submit.

Background

Thirty individuals have requested an exemption from the vision requirement in 49 CFR 391.41(b)(10), which applies to drivers of CMVs in interstate commerce. Under 49 U.S.C. 31315 and 31136(e), FMCSA may grant an exemption for a 2-year period if it finds “such exemption would likely achieve a level of safety that is equivalent to, or greater than, the level that would be achieved absent such exemption.” The statute also allows the agency to renew exemptions at the end of the 2-year period. Accordingly, the agency will evaluate the qualifications of each applicant to determine whether granting the exemptions will achieve the required level of safety.

Qualifications of Applicants

1. Ronald M. Aure

Mr. Aure, age 57, has amblyopia of the left eye. His visual acuity is 20/20 in the right eye and 20/200 in the left. Following an examination in 2001, his optometrist certified, “After extensive testing, it is my medical opinion that Ronald Aure has sufficient vision to perform the driving tasks required to operate a commercial vehicle.” In his application, Mr. Aure indicated he has driven straight trucks for 5 years, accumulating 50,000 miles, and tractor-trailer combinations for 37 years, accumulating 4.6 million miles. He holds a Class A commercial driver's license (CDL) from Iowa, and his driving record for the last 3 years shows no accidents or convictions for moving violations in a CMV.

2. Steven S. Bennett

Mr. Bennett, 46, has amblyopia of the right eye. His visual acuity is 20/200 in the right eye and 20/20 in the left. An optometrist examined him in 2001 and stated, “Based on my findings, and not withstanding other factors, Mr. Bennett should have sufficient visual acuity and peripheral vision to operate a commercial motor vehicle.” In his application, Mr. Bennett indicated he has driven straight trucks for 5 years, accumulating 250,000 miles, and tractor-trailer combinations for 13 years, accumulating 650,000 miles. He holds a Class A CDL from California, and his driving record shows no accidents or convictions for moving violations in a CMV during the last 3 years.

3. Joe W. Brewer

Mr. Brewer, 53, has a prosthetic right eye due to an injury in 1969. His corrected visual acuity is 20/20 in the left eye. An optometrist examined him in 2001 and stated, “Joe Brewer in my opinion has sufficient vision to drive a commercial vehicle.” According to Mr. Brewer's application, he has driven straight trucks for 23 years, accumulating 2.3 million miles. He holds a Class D driver's license from South Carolina, and in the last 3 years he has had no accidents or convictions for moving violations in a CMV, according to his driving record.

4. Trixie L. Brown

Ms. Brown, 47, has amblyopia in her left eye. Her best-corrected vision is 20/25 in the right eye and 20/50 in the left. Following an examination in 2001, her optometrist certified, “It is true Mrs. Brown does not have normal acuity, but she is well adapted to this condition. With her proper prescription in place she functions quite well. I think that as long as her record is good she can continue in her current position as a commercial vehicle operator.” Ms. Brown submitted that she has operated buses for 7 years, accumulating 105,000 miles. She holds a Class B CDL from Indiana, and she has had no accidents or convictions for traffic violations for the last 3 years, according to her driving record.

5. James D. Coates

Mr. Coates, 60, underwent cataract surgery on his right eye in 1994. His vision is 20/80 in the right eye and 20/20 in the left. His optometrist examined him in 2001 and certified, “In my medical opinion, Mr. Coates has 20/20 overall visual acuity uncorrected, and has sufficient visual acuity to perform the driving tasks required to operate a commercial vehicle.” In his application, Mr. Coates indicated he has driven straight trucks for 8 months, accumulating 24,000 miles, and tractor-trailer combinations for 31 years, accumulating 3.1 million miles. He holds a Class A CDL from Arizona, and his driving record for the past 3 years shows no accidents or convictions for traffic violations in a CMV.

6. Michael D. DeBerry

Mr. DeBerry, 45, has amblyopia in his left eye. His best-corrected vision is 20/25 in the right eye and 20/80 in the left. Following an examination in 2001, his optometrist certified, “In my opinion, Mr. DeBerry has sufficient vision to perform the driving tasks required to operate a commercial vehicle.” Mr. DeBerry reported that he has driven straight trucks for 6 years, accumulating 90,000 miles, and tractor-trailer combinations for 18 years, accumulating 2.1 million miles. He holds a Class A CDL from West Virginia, and his driving record shows no accidents or convictions for traffic violations in a CMV for the last 3 years.

7. James W. Ellis, IV

Mr. Ellis, 39, has been blind in the right eye since 1978 due to trauma. His visual acuity in the left eye is 20/20. Following an examination in 2001, his ophthalmologist affirmed, “Yes, the patient has sufficient vision to perform the driving tasks required to operate a commercial vehicle.” Mr. Ellis holds a Class A CDL from New Jersey, and reported that he has driven straight trucks for 2 years, accumulating 200,000 miles, and tractor-trailer combinations for 18 years, accumulating 1.8 million miles. His driving record shows no accidents or convictions for moving violations in a CMV for the past 3 years.

8. John E. Engstad

Mr. Engstad, 57, has amblyopia in his left eye. His best-corrected visual acuity is 20/15-2 in the right eye and 20/70+1 in the left. An ophthalmologist examined him in 2001 and certified, “In my medical opinion, you have sufficient vision to perform the driving tasks required to operate a commercial vehicle.” Mr. Engstad stated he has driven straight trucks for 5 years, accumulating 400,000 miles, and tractor-trailer combinations for 10 years, accumulating 1.3 million miles. He holds a Wisconsin Class ABCD CDL, and his driving record for the last 3 years shows no accidents or convictions for moving violations in a CMV.

9. Jose D. Espino

Mr. Espino, 40, lost his left eye due to trauma in 1980. His uncorrected visual acuity is 20/20 in the right eye. His ophthalmologist examined him in 2001 and certified, “I believe that Mr. Espino has adequate vision and peripheral visual field to operate commercial vehicles as he has in the past.” In his application, Mr. Espino reported that he has driven tractor-trailer combinations for 20 years, accumulating 1.8 million miles. He holds a Florida Class A CDL. There are no accidents and one conviction for a moving violation—Speeding—in a CMV on his driving record for the last 3 years. He exceeded the speed limit by 9 mph.

10. Dan M. Francis

Mr. Francis, 43, has amblyopia in his right eye. His best-corrected visual acuity is 20/200 in the right eye and 20/20 in the left. An optometrist who examined him in 2001 certified, “It is our judgment that Mr. Francis' vision is good enough to operate a commercial vehicle with no restrictions day or night.” Mr. Francis submitted that he has operated tractor-trailer combinations for 23 years, accumulating 2.3 million miles. He holds a Class A CDL from California. His driving record shows he has had no accidents and two convictions for traffic violations in a CMV for the last 3 years. Both convictions were for Failure to Obey Traffic Sign.

11. David W. Grooms

Mr. Grooms, 46, has amblyopia in his right eye. His best-corrected visual acuity is 20/40-2 in the right eye and 20/20 in the left. Following an examination in 2001, his ophthalmologist certified, “It is my medical opinion that Mr. Grooms has sufficient vision to perform commercial vehicle driving tasks.” Mr. Grooms reported he has operated tractor-trailer combinations for 16 years, accumulating 960,000 miles. He holds a Class A CDL from Indiana. His driving record for the last 3 years shows no accidents and one conviction for a moving violation—Speeding—in a CMV. He exceeded the speed limit by 11 mph.

12. Joe H. Hanniford

Mr. Hanniford, 57, has amblyopia in his left eye. His best-corrected visual acuity is 20/20 in the right eye and 20/200 in the left. Following an examination in 2001, his optometrist commented, “As stated before in my letter, I feel Mr. Hanniford's vision is stable and is sufficient to drive a commercial vehicle.” Mr. Hanniford submitted that he has driven straight trucks for 24 years, accumulating 480,000 miles, and tractor-trailer combinations for 15 years, accumulating 124,000 miles. He holds a Class A CDL from South Carolina. His driving record shows he has had no accidents and one conviction for a moving violation—Speeding—in a CMV during the last 3 years. He exceeded the speed limit by 9 mph.

13. David A. Inman

Mr. Inman, 45, is blind in his left eye due to an injury 13 years ago. His visual acuity in the right eye is 20/20 without correction. An optometrist examined him in 2001 and certified, “It is my opinion that he has performed his driving skills now for many years without incident. He has sufficient vision to perform the driving tasks required to operate any commercial vehicle.” Mr. Inman reported he has 8 years' and 320,000 miles' experience driving straight trucks. He holds a Class A CDL from Indiana, and his driving record for the last 3 years shows no accidents or convictions for moving violations in a CMV.

14. Harry L. Jones

Mr. Jones, 47, has nerve damage in his right eye due to a viral infection in childhood. His best-corrected visual acuities are 20/200 in the right eye and 20/25 in the left. His optometrist examined him in 2001 and certified, “In my opinion Mr. Jones has sufficient visual function to perform the driving tasks required to operate a commercial vehicle.” Mr. Jones submitted that he has driven straight trucks for 6 years, accumulating 288,000 miles, and tractor-trailer combinations for 25 years, accumulating 2.5 million miles. He holds a Class A CDL from Ohio. There are no CMV accidents and two convictions for moving violations—Speeding—on his record for the last 3 years. He exceeded the speed limit by 13 mph in one instance and 9 mph in the other.

15. Teddie W. King

Mr. King, 46, has amblyopia in his right eye. His corrected visual acuity is 20/60-in the right eye and 20/20 in the left. Following an examination in 2001, his optometrist stated, “In my opinion, he has sufficient vision to continue his operation of a commercial vehicle.” Mr. King reported that he has driven tractor-trailer combinations for 20 years, accumulating 1.6 million miles. He holds a Class A CDL from North Carolina, and his driving record shows he has had no accidents or convictions for moving violations in a CMV over the last 3 years.

16. Richard B. Leonard

Mr. Leonard, 32, has amblyopia in his right eye. His vision is 20/200 in the right eye and 20/20 in the left. An optometrist examined him in 2002 and certified, “In my opinion, this is a stable condition, and due to past performance Mr. Leonard has proven his ability to perform the driving tasks required to operate a commercial vehicle.” Mr. Leonard reported that he has operated tractor-trailer combinations for 6 years, accumulating 450,000 miles. He holds a Class A CDL from the State of Washington. His driving record for the last 3 years shows he has had no accidents and one conviction for a moving violation—Speeding—in a CMV. He exceeded the speed limit by 16 mph.

17. Robert P. Martinez

Mr. Martinez, 54, has nerve damage to his right eye due to removal of a pituitary adenoma in 1991. His best-corrected vision is 20/60-in the right eye and 20/20 in the left. An ophthalmologist examined him in 2001 and stated, “It is my opinion that Mr. Martinez has sufficient vision to perform the driving tasks required to operate a commercial vehicle.” Mr. Martinez, who holds a Class C driver's license from California, reported that he has been driving straight trucks for 35 years, accumulating 700,000 miles. His driving record shows he has had no accidents and one conviction for a traffic violation—Traveling in the Car Pool Lane—in a CMV during the last 3 years.

18. Michael L. McNeish

Mr. McNeish, 32, has amblyopia in his left eye. His visual acuity in the right eye is 20/20 and in the left 20/200. An optometrist examined him in 2001 and certified, “With Michael's only deficiency being central vision loss in the left eye and a full field of view in that eye, I feel he should have no difficulty in performing the driving tasks required to operate a commercial vehicle.” In his application, Mr. McNeish stated he has 6 years' and 90,000 miles' experience operating tractor-trailer combinations. He holds a Class A CDL from Pennsylvania, and there are no accidents or convictions for moving violations in a CMV on his record for the last 3 years.

19. David E. Miller

Mr. Miller, 45, has amblyopia in his left eye. His best-corrected visual acuity is 20/20 in the right eye and 20/400 in the left. An optometrist examined him in 2001 and certified, “Mr. Miller clearly has sufficient vision to operate a commercial vehicle.” Mr. Miller submitted that he has driven straight trucks for 1½ years, accumulating 30,000 miles, and tractor-trailer combinations for 1½ years, accumulating 210,000 miles. He holds a Class A CDL from Florida. His driving record shows he has had no accidents and one conviction—Failure to Obey Traffic Instruction Sign/Device—while operating a CMV during the last 3 years.

20. Bobby G. Minton

Mr. Minton, 60, has amblyopia of the left eye. His best-corrected vision is 20/20 in the right eye and 20/70-1 in the left. Following an examination in 2001, his optometrist stated, “In my medical opinion, I feel that Mr. Minton has sufficient vision to perform driving tasks while operating a commercial vehicle.” Mr. Minton reported that he has 10 years' experience operating straight trucks, accumulating 1.2 million miles. He holds a Class A CDL from North Carolina. There are no accidents and one conviction for a moving violation—Drive on Wrong Side of Undivided Street/Road—in a CMV on his driving record for the last 3 years.

21. Lawrence C. Moody

Mr. Moody, 58, has a prosthetic left eye due to trauma at age 24. The visual acuity of his right eye is 20/20. Following an examination in 2001, his optometrist certified, “In my opinion, Mr. Moody has sufficient vision to perform the driving tasks required to operate a commercial vehicle.” According to his application, Mr. Moody has operated straight trucks for 5 years, accumulating 250,000 miles, and tractor-trailer combinations for 23 years, accumulating 2.8 million miles. He holds a Class A CDL from New Jersey. His driving record for the last 3 years shows that he had one accident and two convictions for moving violations in a CMV, all on separate occasions. The accident occurred when his vehicle collided with another vehicle at an intersection controlled by a traffic light. The other driver, and not Mr. Moody, was charged in the accident. The traffic violations were Speeding and Fail to Obey Sign/Traffic Control Device. He exceeded the speed limit by 15 mph.

22. Stanley W. Nunn

Mr. Nunn, 37, has a congenital cataract in his right eye. He has hand-motion vision in the right eye and 20/20 vision in the left. Following an examination in 2002, his optometrist certified, “In my opinion, Mr. Nunn has sufficient vision to perform any driving task required for a commercial vehicle.” Mr. Nunn submitted that he has driven straight trucks for 7 years, accumulating 98,000 miles. He holds a Class B CDL from Tennessee. His driving record for the last 3 years shows no accidents or convictions for traffic violations in a CMV.

23. William R. Proffitt

Mr. Proffitt, 41, has amblyopia in his left eye. His visual acuity is 20/20 in the right eye and 20/200 in the left. Following an examination in 2001, his ophthalmologist certified, “Therefore, in my medical opinion, Bill has sufficient vision to operate a commercial vehicle.” Mr. Proffitt submitted that he has driven straight trucks for 4 years, accumulating 40,000 miles. He holds a Class B CDL from Arkansas, and his driving record shows he has had no accidents or convictions for moving violations in a CMV in the last 3 years.

24. Charles L. Schnell

Mr. Schnell, 53, has a prosthetic right eye following removal of the eye for an ocular tumor in 1955. His corrected visual acuity is 20/20 in the left eye. An ophthalmologist who examined him in 2001 certified, “The patient has normal visual function in his left eye. He has normal peripheral vision and normal central vision and this should supply him with sufficient vision to perform driving tasks. However, this only qualifies his visual potential and not overall competency to perform the tasks of operating a commercial vehicle.” Mr. Schnell reported that he has driven tractor-trailer combination vehicles for 10 years, accumulating 900,000 miles. He holds a Class A CDL from Florida. His driving record for the last 3 years shows one accident and no convictions for moving violations in a CMV. Another vehicle crossed the centerline and struck his vehicle. He was not charged in the accident.

25. Charles L. Shirey

Mr. Shirey, 51, has amblyopia in his left eye. He has best-corrected visual acuity of 20/20+ in the right eye and 20/300 in the left. Following an examination in 2001, his optometrist stated, “My impression is that Mr. Charles L. Shirey has sufficient vision to perform the driving tasks required to operate a commercial vehicle.” Mr. Shirey submitted that he has driven straight trucks for 6 years, accumulating 600,000 miles, and tractor-trailer combinations for 19 years, accumulating 2.0 million miles. He holds a Pennsylvania Class AM CDL, and his driving record shows that during the last 3 years he has had no accidents or convictions for moving violations in a CMV.

26. James R. Spencer, Sr.

Mr. Spencer, 61, has amblyopia in his left eye. The best-corrected visual acuity of his right eye is 20/20 and of his left eye 20/60. His optometrist examined him in 2001 and stated, “This letter is to certify that in my professional opinion, found on the exam done in my office on December 19, 2001, Mr. Spencer has adequate vision to perform the driving tasks required of a commercial vehicle driver.” Mr. Spencer reported that he has driven tractor-trailer combinations for 43 years, accumulating 4.3 million miles. He holds a Class A CDL from Florida, and his driving record for the last 3 years shows no accidents or convictions for moving violations in a CMV.

27. David E. Steinke

Mr. Steinke, 50, has congenital right anophthalmia. His best-corrected vision in the left eye is 20/15+. An optometrist examined him in 2001 and certified, “I will again reaffirm that in my medical opinion, David has sufficient visual skills to operate a commercial vehicle.” Mr. Steinke submitted that he has driven tractor-trailer combinations for 24 years, accumulating 2.6 million miles. He holds a Class ABCD CDL from Wisconsin, and has no accidents or convictions for moving violations in a CMV on his driving record for the last 3 years.

28. Kevin R. Stoner

Mr. Stoner, 28, has amblyopia in his right eye. His best-corrected vision is 20/400 in the right eye and 20/15 in the left. An optometrist examined him in 2001 and stated, “Once again, my clinical evaluation of this patient reveals no reason why this patient should not qualify for an interstate commercial driver's license under the waiver for monocular drivers without an optical correction.” Mr. Stoner reported he has driven straight trucks for 2½ years, accumulating 150,000 miles, and tractor-trailer combinations for 6 years, accumulating 360,000 miles. He holds a Pennsylvania Class A CDL, and he has had no accidents or convictions for moving violations in a CMV for the past 3 years, according to his driving record.

29. Carl J. Suggs

Mr. Suggs, 64, has a macular scar in his left eye. His best-corrected visual acuity is 20/20 in the right eye and 20/400 in the left. An ophthalmologist examined him in 2001 and certified, “Mr. Suggs has been driving commercial vehicles for many years and has an exemplary record and it is my opinion that he has sufficient vision to perform the driving task required to operate a commercial vehicle.” Mr. Suggs reported that he has driven straight trucks for 32 years, accumulating 390,000 miles, and buses for 41 years, accumulating 2.2 million miles. He holds a Class B CDL from North Carolina, and his driving record for the last 3 years shows no accidents or convictions for moving violations in a CMV.

30. James A. Torgerson

Mr. Togerson, 51, has amblyopia in his left eye. His best-corrected visual acuities are 20/20 in the right eye and 20/200 in the left. An optometrist examined him in 2001 and certified, “In my opinion, Mr. Torgerson is visually capable of operating a commercial motor vehicle.” Mr. Torgerson submitted that he has driven straight trucks for 5 years, accumulating 250,000 miles, and tractor-trailer combinations for 5 years, accumulating 625,000 miles. He holds a Class A CDL from Minnesota, and his driving record for the past 3 years shows no accidents or convictions for moving violations in a CMV.

Request for Comments

In accordance with 49 U.S.C. 31315 and 31136(e), FMCSA is requesting public comment from all interested persons on the exemption petitions and the matters discussed in this notice. All comments received before the close of business on the closing date indicated above will be considered and will be available for examination in the docket room at the above address.

Issued on: March 27, 2002.
Julie Anna Cirillo,
Chief Safety Officer.

[FR Doc. 02-7913 Filed 4-1-02; 8:45 am]

BILLING CODE 4910-EX-P